DEPARTMENT OF ENERGY

Federal Energy Regulatory Commission

Notice of Application for Amendment of License and Soliciting Comments, Motions To Intervene, and Protests

November 2, 2004.

Take notice that the following hydroelectric application has been filed with the Commission and is available for public inspection:

a. Application Type: Amendment of License.

b. Project No: 2364-016.

c. Date Filed: August 31, 2004, supplemented October 20, 2004.

d. Applicant: Madison Paper Industries, Inc.

e. Name and Location of Project: The Abenaki Hydroelectric Project is located on the Kennebec River in Somerset County, Maine.

f. Filed Pursuant to: Federal Power Act, 16 U.S.C. §§ 791a-825r.

g. Applicant Contact: Mr. Christopher C. Bean, Madison Paper Industries, Main Street, PO Box 129, Madison, ME 04950-0129, (207) 696-1195.

h. FERC Contact: James Hunter at (202) 502-6086.

i. Deadline for filing comments, protests, or motions to intervene: December 3, 2004.

j. Description of Request: Madison Paper Industries, as licensee, has filed a license amendment application proposing to exclude the 3,400-foot-long, 13.8-kilovolt (kV) transmission line connecting the licensee's ground wood mill, adjacent to the Abenaki powerhouse, to the licensee's paper mill. The licensee states that the 13.8-kV line is no longer used for transporting power to the utility, consequently the point of interconnection with the utility's distribution system is at circuit breakers B3 and B4 at the ground wood mill. The supplement includes a one-line diagram supporting the written discussion.

k. Locations of the Application: A copy of the application is available for inspection and reproduction at the Commission's Public Reference Room, located at 888 First Street, NE, Room 2A, Washington, DC 20426, or by calling (202) 502-8371. This filing may also be viewed on the Commission's Web site at http://www.ferc.gov using the “eLibrary” link. Enter the docket number (P-2364) in the docket number field to access the document. You may also register online at http://www.ferc.gov/docs-filing/esubscription.asp to be notified via email of new filings and issuances related to this or other pending projects. For assistance, call 1-866-208-3676 or e-mail FERCOnlineSupport@ferc.gov, for TTY, call (202) 502-8659. A copy is also available for inspection and reproduction at the address in item (g) above.

l. Individuals desiring to be included on the Commission's mailing list should so indicate by writing to the Secretary of the Commission.

m. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

n. Filing and Service of Responsive Documents—Any filings must bear in all capital letters the title “COMMENTS”, “PROTEST”, OR “MOTION TO INTERVENE”, as applicable, and the Project Number of the particular application to which the filing refers. All documents (original and eight copies) should be filed with: Magalie R. Salas, Secretary, Federal Energy Regulatory Commission, 888 First Street, NE., Washington, DC 20426. A copy of any motion to intervene must also be served upon each representative of the Applicant specified in the particular application.

o. Agency Comments—Federal, state, and local agencies are invited to file comments on the described application. A copy of the application may be obtained by agencies directly from the Applicant. If an agency does not file comments within the time specified for filing comments, it will be presumed to have no comments. One copy of an agency's comments must also be sent to the Applicant's representatives.

p. Comments, protests and interventions may be filed electronically via the Internet in lieu of paper. See, 18 CFR 385.2001(a)(1)(iii) and the instructions on the Commission's Web site at http://www.ferc.gov under the “e-Filing” link. The Commission strongly encourages electronic filings.

Magalie R. Salas,
Secretary.

[FR Doc. E4-3092 Filed 11-9-04; 8:45 am]

BILLING CODE 6717-01-P